DEPARTMENT OF COMMERCE

National Oceanic and Atmospheric Administration

[I.D. 011807B]

Draft (2007) Strategic Plan for Fisheries Research

AGENCY: National Marine Fisheries Service (NMFS), National Oceanic and Atmospheric Administration (NOAA), Commerce

ACTION: Notice of availability; request for comments.

SUMMARY: NMFS announces the availability of and seeks public comment on the draft (2007) Strategic Plan for Fisheries Research. The Magnuson-Stevens Fishery Conservation and Management Act (Magnuson-Stevens Act) requires the Secretary of Commerce to develop, triennially, a strategic plan for fisheries research for the subsequent years. Any written comments on the draft plan will be considered by NMFS in the development of the final 2007 Strategic Plan for Fisheries Research.

DATES: Comments on the plan must be received on or before February 23, 2007.

ADDRESSES: Comments on and requests for the draft NMFS Strategic Plan for Fisheries Research (2007) should be directed to Mark Chandler, Office of Science and Technology, NMFS, NOAA, 1315 East-West Highway, Silver Spring, MD 20910. phone: (301) 713-2367 ext. 152, fax: (301) 713-1875, e-mail: NSPFR.comments@noaa.gov.

Electronic Access: The draft NMFS Strategic Plan for Fisheries Research (2007) may be reviewed in its entirety online at http://www.st.nmfs.gov/.

FOR FURTHER INFORMATION CONTACT: Mark Chandler at 301-713-2367 ext. 152, e-mail: NSPFR.comments@noaa.gov.

SUPPLEMENTARY INFORMATION: Section 404 of the Magnuson-Stevens Act requires the Secretary of Commerce to publish triennially in the Federal Register a five-year strategic plan for fisheries research. The Magnuson-Stevens Act also requires that the plan address four major areas of research: (1) research to support fishery conservation and management; (2) conservation engineering research; (3) research on the fisheries; and (4) information management research.

The 2007 draft Strategic Plan for Fisheries Research is based upon and entirely consistent with NMFS' “New Priorities for the 21st Century: National Marine Fisheries Service Strategic Plan Updated for FY 2005-FY 2010” located on the internet at http://www.nmfs.noaa.gov/mb/strategic/.

The 2007 draft document is a component of the all-encompassing NMFS Strategic Plan, focusing on science research activities. The objectives found under the “Major Fishery Research Goals and Objectives” section of the Strategic Plan for Fisheries Research can be matched with those in the NMFS Strategic Plan. In addition, the strategies, goals and objectives of the draft Strategic Plan for Fisheries Research are consistent with NOAA's “New Priorities for the 21st Century: NOAA's Strategic Plan- Updated for FY 2006-2011” available online at http://www.spo.noaa.gov/.

The scope of the 2007 draft document is solely fisheries research to support the Magnuson-Stevens Act. It does not include the regulatory and enforcement components of NMFS' mission. NMFS currently conducts a comprehensive program of fisheries research and involves industry and others interested in planning and implementing its fisheries objectives.

NMFS intends that the final version of the Strategic Plan for Fisheries Research will take advantage of information and recommendations from all interested parties. Therefore, comments and suggestions on this draft NMFS Strategic Plan for Fisheries Research are hereby solicited from the public, other concerned government agencies, the scientific community, industry, and any other interested parties.

Dated: January 18, 2007.
Steven A. Murawski,
Director of Scientific Programs and Chief Science Advisor, National Marine Fisheries Service.

[FR Doc. E7-1017 Filed 1-23-07; 8:45 am]

BILLING CODE 3510-22-S